DEPARTMENT OF THE INTERIOR

Bureau of Land Management

[CA-670-01-1610-JP-064B, C00-0927 WHA-ADR]

Temporary Closure of Federal Land

AGENCY: Bureau of Land Management, Interior.

ACTION: Pursuant to Title 43 Code of Federal Regulations 8364.1, the Bureau of Land Management proposes to temporarily close parts of Federal land in Imperial County to camping to protect the resources, desert tortoise habitat and its associated plants and wildlife. The public land areas described below are approximately 40 square miles of public lands east of Glamis, Imperial County, California.

SUMMARY: The Bureau of Land Management (BLM) proposes to temporarily close an area of public land to camping in Imperial County. The area lies east of the Imperial Sand Dunes Recreation Management Area and is specifically described below. This proposed closure is to provide interim protection for a threatened species, the desert tortoise (Gopherus agassizi). By taking this interim action, BLM contributes to the conservation of a threatened species in accordance with Section 7(a)(1) of the Endangered Species Act (ESA), 16 U.S.C 1536(a)(1). BLM also avoids making any irreversible commitment of resources which would foreclose any reasonable and prudent alternatives which might be required as a result of the consultation on the amendment to the CDCA Plan in accordance with Section 7(d) of ESA, 16 U.S.C 1536(d). The proposed closure would remain in effect until a Record of Decision is signed on the North Eastern Colorado Desert Bio-regional Plan which is anticipated in September 2002.

While the area would be closed to camping, driving on existing routes of travel would still be authorized. In addition, the proposed closure does not apply to private lands within the described area.

The area of the camping closure is a contiguous area described in two parts. Part 1: To the north of State Highway 78 (78), an area bounded on the south by 78, on the west by Ted Kipf Road, on the east by the Union Pacific Railroad tracks (UPRR), and on the north by a connecting line between Ted Kipf Road and the UPRR at a point 12 miles northwest of 78. Part 2: An area north and south of 78, bounded in part to the southwest by the UPRR, to the extreme southeast by Olgilby Road, and to the northeast by the private property of the Mesquite Mine; and further bounded outboard to the north and east to a point of one (1) mile and parallel to the pattern and connections of the following three roads—78, Vista Mine Road, and Ted Kipf.

The Order for closure will be posted in the appropriate BLM Offices and at places near and/or within the area to which the closure or restriction applies (see El Centro Field Office at end of this Notice).

DATES: No sooner than 30-days after publication of this notice, a Federal Register Notice of final decision will be published.

SUPPLEMENTARY INFORMATION: On March 16, 2000, the Center for Biological Diversity, and others (Center) filed for injunctive relief in U.S. District Court, Northern District of California (Court) against BLM alleging that BLM was in violation of Section 7 of ESA, 16 U.S.C 1536, by failing to enter into formal consultation with the FWS on the effects of adoption of the California Desert Conservation Area Plan (CDCA Plan), as amended, upon threatened and endangered species. On August 25, 2000, BLM acknowledged through a Court stipulation that activities authorized, permitted, or allowed under the CDCA Plan may adversely affect threatened and endangered species, and that BLM is required to consult with the U.S. Fish and Wildlife Service (USFWS) to insure that adoption and implementation of the CDCA Plan is not likely to jeopardize the continued existence of threatened and endangered species or to result in the destruction or adverse modification of critical habitat of listed species.

Although BLM has received biological opinions on selected activities, consultation on the overall CDCA Plan is necessary to address the cumulative effects of all the activities authorized by the CDCA Plan. Consultation on the overall Plan is complex and the completion date is uncertain. Absent consultation on the entire Plan, the impacts of individual activities, when added together with the impacts of other activities in the desert, are not known. The BLM entered into negotiations with plaintiffs regarding interim actions to be taken to provide protection for endangered and threatened species pending completion of the consultation on the CDCA Plan. Agreement on these interim actions avoided litigation of plaintiffs' request for injunctive relief and the threat of an injunction prohibiting all activities authorized under the Plan. These interim agreements have allowed BLM to continue to authorize appropriate levels of activities throughout the planning area during the lengthy consultation process while providing appropriate protection to the desert tortoise and other listed species in the short term. By taking interim actions as allowed under 43 CFR Subpart 8364, BLM contributes to the conservation of endangered and threatened species in accordance with Section 7(a)(1) of the ESA. BLM also avoids making any irreversible or irretrievable commitment of resources which would foreclose any reasonable and prudent alternative measures which might be required as a result of the consultation on the CDCA plan in accordance with Section 7(d) of the ESA. Closure of camping in the vicinity of the Algodones Dunes was included in the settlement stipulation concerning All Further Injunctive Relief.

The EA concerning this closure is available for a 15 day review period beginning approximately 1 week after publication of this notice. Interested parties should contact the Field Office Manager for a copy and the review schedule. The documents will also be available for review at the BLM web site www.ca.blm.gov. Written comments may be sent to the address listed below in this notice.

The BLM proposes a camping closure to reduce impacts to desert tortoise habitat and its associated plants and wildlife. This closure would impact several hundred campers and approximately 40 square miles of land. Vehicle traffic in this area is adversely impacting desert tortoise habitat to a noticeable extent. The use is increasing to outlying areas. Such use is not consistent with the area's limited use classification which limits OHV activity in this area. Currently, the area immediately east of Glamis and described above in this notice is noticeably impacted by OHV activity. The goal is to restore the desert habitat.

FOR FURTHER INFORMATION OR TO SUBMIT COMMENTS CONTACT: Roxie Trost, BLM, El Centro Field Office, 1661 S. 4th Street, El Centro , CA 92243, telephone (760) 337 4400.

Dated: August 3, 2001.
Roxie C. Trost,
Acting Field Manager.

[FR Doc. 01-20176 Filed 8-9-01; 8:45 am]

BILLING CODE 4310-40-P